GENERAL SERVICES ADMINISTRATION

41 CFR Parts 301-10 and 301-53

[FTR Amendment 104]

RIN 3090-AH57

Federal Travel Regulation; Using Promotional Materials and Frequent Traveler Programs

AGENCY: Office of Governmentwide Policy, GSA.

ACTION: Final rule.

SUMMARY: This final rule amends the Federal Travel Regulation (FTR) to remove those provisions requiring that promotional benefits, including frequent flyer miles, earned on official travel are considered the property of the Government and may only be used for official travel. On December 28, 2001, The President signed into law a provision that Federal employees may retain such promotional items for personal use.

DATES: This final rule is effective April 12, 2002 and applies to travel performed before, on, or after December 28, 2001.

FOR FURTHER INFORMATON CONTACT: Jim Harte, Program Analyst (Travel Team Leader and Facilitator) at telephone (202) 501-0483.

SUPPLEMENTARY INFORMATION:

A. Background

Pursuant to Section 1116 of the National Defense Authorization Act for Fiscal Year 2002 (the Act) (Public Law 107-107, December 28, 2001), the General Services Administration (GSA) is issuing regulations allowing Federal employees to retain and make personal use of promotional items earned while on official Government travel. A Federal traveler who receives a promotional item such as frequent flyer miles, upgrades, or access to carrier clubs or facilities received as a result of using travel or transportation services obtained at Federal Government expense, or accepted under section 1353 of title 31, United States Code, may retain the promotional item for personal use, if the promotional item is obtained under the same terms as those offered to the general public and at no additional cost to the Federal Government. The Act also repealed Section 6008 of the Federal Acquisition Streamlining Act of 1994 (5 U.S.C. 5702 note; Public Law 103-355) that had previously prohibited personal retention of such promotional items.

B. Executive Order 12866

GSA has determined that this final rule is not a significant regulatory action for the purposes of Executive Order 12866 of September 30, 1993.

C. Regulatory Flexibility Act

This final rule is not required to be published in the Federal Register for notice and comment; therefore, the Regulatory Flexibility Act, 5 U.S.C. 601 et seq., does not apply.

D. Paperwork Reduction Act

The Paperwork Reduction Act does not apply because this final rule does not impose recordkeeping or information collection requirements, or the collection of information from offerors, contractors, or members of the public which require the approval of the Office of Management and Budget under 44 U.S.C. 501 et seq.

E. Small Business Regulatory Enforcement Fairness Act

This final rule is also exempt from congressional review prescribed under 5 U.S.C. 801 since it relates solely to agency management and personnel.

List of Subjects in 41 CFR Parts 301-10 and 301-53

Government employees, Travel and transportation expenses.

For the reasons set forth in the preamble, 41 CFR Chapter 301 is amended as follows:

PART 301-10—TRANSPORTATION EXPENSES

1. The authority citation for 41 CFR part 301-10 continues to read as follows:

Authority: 5 U.S.C. 5707; 40 U.S.C. 486(c); 49 U.S.C. 40118.

2. Section 301-10.123 is amended by adding a note at the end of the section to read as follows:

§ 301-10.123 When may I use first-class airline accommodations?

* * * * *

Note to § 301-10.123: You may upgrade to first-class at your personal expense, including through redemption of frequent flyer benefits.

3. Section 301-10.124 is amended by:

a. Revising the phrase “paragraphs (a) through (j) of this section” in the introductory text to read “paragraphs (a) through (i) of this section”.

b. Removing paragraph (g) and redesignating paragraphs (h), (i), and (j) as paragraphs (g), (h), and (i), respectively.

c. Adding a note at the end of the section to read as follows:

§ 301-10.124 When may I use premium-class other than first-class airline accommodations?

* * * * *

Note to § 301-10.124: You may upgrade to premium-class other than first-class at your personal expense, including through redemption of frequent flyer benefits.

4. Part 301-53 is revised to read as follows:

PART 301-53—USING PROMOTIONAL MATERIALS AND FREQUENT TRAVELER PROGRAMS

Sec.
301-53.1 To whom do the pronouns “I”, “you”, and their variants refer throughout this part?
301-53.2 What may I do with promotional benefits or materials I receive from a travel service provider?
301-53.3 How may I use frequent traveler benefits?
301-53.4 May I select travel service providers for which my agency is not a mandatory user in order to maximize my frequent traveler benefits?
301-53.5 Are there exceptions to the mandatory use of contract city-pair fares and an agency's travel management system?
301-53.6 Is a denied boarding benefit considered a promotional item for which I may retain compensation received from an airline whether voluntary or involuntary?

Authority: 5 U.S.C. 5707; 31 U.S.C. 1353.

§ 301-53.1 To whom do the pronouns “I”, “you”, and their variants refer throughout this part?

The pronouns “I”, “you”, and their variants throughout this part refer to the employee.

§ 301-53.2 What may I do with promotional benefits or materials I receive from a travel service provider?

Any promotional benefits or materials received from a travel service provider in connection with official travel may be retained for personal use, if such items are obtained under the same conditions as those offered to the general public and at no additional cost to the Government.

§ 301-53.3 How may I use frequent traveler benefits?

You may use frequent traveler benefits earned on official travel to obtain travel services for a subsequent official travel assignment(s); however, you may also retain such benefits for your personal use, including upgrading to a higher class of service.

§ 301-53.4 May I select travel service providers for which my agency is not a mandatory user in order to maximize my frequent traveler benefits?

No, you may not select a traveler service provider based on whether it provides frequent traveler benefits. You must use the travel service provider for which your agency is a mandatory user. This includes contract passenger transportation services and travel management systems. You may not choose a travel service provider to gain frequent traveler benefits for personal use. (Also see §§ 301-10.109 and 301-10.110 of this chapter.)

§ 301-53.5 Are there exceptions to the mandatory use of contract city-pair fares and an agency's travel management system?

Yes, the exceptions are in accordance with §§ 301-10.107 and 301-10.108 of this chapter for the mandatory use of a contract city-pair fare, and § 301-73.103 of this chapter for the mandatory use of a travel management system.

§ 301-53.6 Is a denied boarding benefit considered a promotional item for which I may retain compensation received from an airline whether voluntary or involuntary?

A denied boarding benefit (e.g., cash, free ticket coupon) is not a promotional item given by an airline. See the provisions of § 301-10.116 of this chapter when an airline denies you a seat (involuntary) and § 301-10.117 of this chapter when you vacate your seat (voluntary).

Dated: April 1, 2002.
Stephen A. Perry,
Administrator of General Services.

[FR Doc. 02-8756 Filed 4-11-02; 8:45 am]

BILLING CODE 6820-14-P